DEPARTMENT OF THE TREASURY

Proposed Collection; Comment Request; Race and National Origin Identification

AGENCY: Department of The Treasury, Departmental Offices.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). The Department of the Treasury is soliciting comments on this collection of information that is scheduled to expire January 31, 2012.

DATES: Written comments must be received on or before January 9, 2012 to be assured of consideration.

ADDRESSES: You may submit comments by any of the following methods:

http://www.PRAComment.gov. To provide your comments, selected the “comment page” link and follow the instructions for submitting comments.

email: Joann.Sokol@treasury.gov; subject line: Request for Comment—RNO Renewal.

Fax: Attn: Joann Sokol; Subject: Request for Comments—RNO Renewal; (202) 622-0149.

Mail: Attn: Joann Sokol, Career Connector, Departmental Offices/OCIO; Department of the Treasury, 1750 Pennsylvania Avenue NW, Washington, DC 20220.

All responses to this notice will be included in the request for OMB's approval. All comments will also become a matter of public record.

FOR FURTHER INFORMATION CONTACT: Requests for additional information or request a copy of the information collection should be directed to Joann Sokol (202) 622-0814.

SUPPLEMENTARY INFORMATION:

OMB Number: 1505-0195.

Type of Review: Revision of a currently approved collection.

Title: Race and National Origin Identification.

Abstract: The Department's automated recruitment system, CareerConnector, is used to capture race and national origin information electronically from an applicant. The data will be used to help Treasury Bureaus identify barriers to selection and determine the demographics of the overall applicant pool.

Affected Public: Individuals and households.

Estimated Number of Respondents: 500,000.

Estimated Annual Responses: 500,000.

Estimated Hours Per Response: 0.083 (5 mins. per response).

Estimated Total Annual Burden Hours: 41,666.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology, and (e) estimates of capital or start-up costs and costs of operation, maintenance, and purchase of services to provide information.

Dated: November 2, 2011.
Dawn D. Wolfgang,
Treasury PRA Clearance Officer.

[FR Doc. 2011-28818 Filed 11-7-11; 8:45 am]

BILLING CODE 4810-25-P